DEPARTMENT OF TRANSPORTATION

Federal Aviation Administration

14 CFR Part 39

[Docket No. FAA-2011-1087; Directorate Identifier 2011-NM-032-AD; Amendment 39-16967; AD 2012-04-11]

RIN 2120-AA64

Airworthiness Directives; Airbus Airplanes

AGENCY: Federal Aviation Administration (FAA), Department of Transportation (DOT).

ACTION: Final rule.

SUMMARY: We are superseding two existing airworthiness directives (AD). One existing AD is for Airbus Model A319, A320, and A321 series airplanes without Airbus modification 26017. That AD currently requires replacing the flight warning computers (FWCs). The other existing AD is for Airbus Model A320 and A321 series airplanes on which Airbus modification 24612 or Airbus Service Bulletin A320-31-1080 has not been accomplished. That existing AD currently requires revising the limitations section of the airplane flight manual. This new AD requires replacing both FWC units with certain FWC units. This AD was prompted by in-service events of thrust lever mismanagement and a manufacturer analysis on the failure to follow procedure or heed existing cockpit cues. The analysis of the thrust lever management issue showed two categories of scenarios that could lead to thrust asymmetry during landing, with controllability and deceleration consequences. We are issuing this AD to prevent thrust asymmetry conditions which could result in loss of control of the airplane during landing.

DATES: This AD becomes effective April 17, 2012.

The Director of the Federal Register approved the incorporation by reference of certain publications listed in this AD as of April 17, 2012.

The Director of the Federal Register approved the incorporation by reference of a certain publication listed in this AD as of June 24, 2002 (67 FR 35425, May 20, 2002).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tim Dulin, Aerospace Engineer, International Branch, ANM-116, Transport Airplane Directorate, FAA, 1601 Lind Avenue SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on October 19, 2011 (76 FR 64854), and proposed to supersede AD 97-22-13, Amendment 39-10185 (62 FR 58891, October 31, 1997); and AD 2002-10-06, Amendment 39-12752 (67 FR 35425, May 20, 2002). That NPRM proposed to correct an unsafe condition for the specified products. The MCAI states:

Following in-service experience, analyses of the failure to follow procedure or heed existing cockpit cues were conducted to assess the consequences of mismanagement of thrust levers during landing.

The investigation results identified the need for improvements in the identification of throttle mis-positioning and so providing further opportunity for the flight crew to identify an incorrect thrust lever configuration and to correct this. For the A320 family of aeroplanes this being IDLE or REVERSE, which is necessary to enable ground spoiler (G/S) extension and auto-brake (A/BRK) functions. In addition, the analysis of the thrust lever management issue shows two categories of scenarios that could lead to thrust asymmetry during landing with controllability and deceleration consequences:

—One thrust lever kept in forward thrust when the other is put in IDLE or REVERSE. This has been seen in cases of dispatch with one thrust reverser inoperative; and

—One thrust lever moved in forward position after landing, usually when bringing the thrust lever back from REVERSE to IDLE.

These thrust asymmetry conditions, if not corrected, could result in loss of control of the aeroplane during landing.

This [EASA] AD supersedes DGAC France AD 94-211-059(B) R2 and 96-079-079(B) [which corresponds to FAA AD 97-22-13 (62 FR 58891, October 31, 1997], mandating Aircraft Flight Manual Temporary Revision reference 9.99.99/20 and the installation of FWC P/N 350E017248685 (H1D2) as terminating action for both ADs.

This [EASA] AD retains the requirements of DGAC France AD 2000-320-147(B) [which corresponds to FAA AD 2002-10-06 (67 FR 35425, May 20, 2002)], which is also superseded, which required the installation of FWC P/N 350E017271616 (H1E2).

For the reasons described above, this [EASA] AD requires the replacement of both FWC units with minimum FWC P/N 350E053020909 (H2F5) units, introducing “Enhanced RETARD” logic.

You may obtain further information by examining the MCAI in the AD docket.

Comments

We gave the public the opportunity to participate in developing this AD. We considered the comment received. The commenter supports the NPRM (76 FR 64854, October 19, 2011).

Explanation of Changes Made to This AD

We have redesignated paragraph (g) and Note 1 of the NPRM (76 FR 64854, October 19, 2011) to paragraphs (g)(1) and (g)(2) in this AD, respectively. We have revised certain headings throughout this AD. We have also revised the wording in paragraphs (g)(2) and (j) of this AD; this change has not changed the intent of those paragraphs.

Conclusion

We reviewed the available data, including the comment received, and determined that air safety and the public interest require adopting the AD with the changes described previously and minor editorial changes. We have determined that these minor changes:

• Are consistent with the intent that was proposed in the NPRM (76 FR 64854, October 19, 2011) for correcting the unsafe condition; and

• Do not add any additional burden upon the public than was already proposed in the NPRM (76 FR 64854, October 19, 2011).

Costs of Compliance

We estimate that this AD will affect about 729 products of U.S. registry. The actions that are required by AD 2002-10-06, Amendment 39-12752 (67 FR 35425, May 20, 2002) and retained in this AD take about 7 work-hours per product, at an average labor rate of $85 per work hour. Required parts would cost about $0 per product. Where the service information lists required parts costs that are covered under warranty, we have assumed that there will be no charge for these parts. As we do not control warranty coverage for affected parties, some parties may incur costs higher than estimated here. Based on these figures, the estimated cost of the currently required actions is $595 per product.

We estimate that it would take about 4 work-hours per product to comply with the new basic requirements of this AD. The average labor rate is $85 per work-hour. Required parts would cost about $0 per product. Based on these figures, we estimate the cost of this AD on U.S. operators to be $247,860, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 64857, October 19, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 97-22-13, Amendment 39-10185 (62 FR 58891, October 31, 1997); and AD 2002-10-06, Amendment 39-12752 (67 FR 35425, May 20, 2002); and adding the following new AD:

2012-04-11 Airbus: Amendment 39-16967. Docket No. FAA-2011-1087; Directorate Identifier 2011-NM-032-AD.

(a) Effective Date

This airworthiness directive (AD) becomes effective April 17, 2012.

(b) Affected ADs

This AD supersedes AD 97-22-13, Amendment 39-10185 (62 FR 58891, October 31, 1997); and AD 2002-10-06, Amendment 39-12752 (67 FR 35425, May 20, 2002).

(c) Applicability

This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all serial numbers; if equipped with a flight warning computer (FWC) with a part number (P/N) listed in table 1 of this AD.

Table 1—List of FWC Part Numbers Affected by This AD
FWC Part No.
350E>017238484 (H1D1)
350E>016187171 (C5)
350E>017248685 (H1D2)
350E>017251414 (H1E1)
350E>017271616 (H1E2)
350E>018291818 (H1E3CJ)
350E>018301919 (H1E3P)
350E>018312020 (H1E3Q)
350E>053020202 (H2E2)
350E>053020303 (H2E3)
350E>053020404 (H2E4)
350E>053020606 (H2F2)
350E>053020707 (H2F3)
350E>053021010 (H2F3P)
350E>053020808 (H2F4)

(d) Subject

Air Transport Association (ATA) of America Code 31: Indicating and Recording Systems.

(e) Reason

This AD was prompted by in-service events of thrust lever mismanagement and a manufacturer analysis on the failure to follow procedure or heed existing cockpit cues. The analysis of the thrust lever management issue showed two categories of scenarios that could lead to thrust asymmetry during landing, with controllability and deceleration consequences. We are issuing this AD to prevent thrust asymmetry conditions which could result in loss of control of the airplane during landing.

(f) Compliance

You are responsible for having the actions required by this AD performed within the compliance times specified, unless the actions have already been done.

(g) Restatement of Requirements of AD 2002-10-06, Amendment 39-12752 (67 FR 35425, May 20, 2002): Modification

(1) For Model A319, A320, and A321 series airplanes without Airbus modification 26017: Within 18 months after June 24, 2002 (the effective date of AD 2002-10-06, Amendment 39-12752 (67 FR 35425, May 20, 2002)), replace the flight warning computers (FWCs) in accordance with Airbus Service Bulletin A320-31-1106, Revision 04, dated December 21, 1999; or Airbus Mandatory Service Bulletin A320-31-1106, Revision 05, dated September 21, 2000.

(2) This paragraph provides credit for replacement of the FWCs required by paragraph (g)(1) of this AD, if the replacement was done before June 24, 2002 (the effective date of AD 2002-10-06, Amendment 39-12752 (67 FR 35425, May 20, 2002)), using Airbus Service Bulletin A320-31-1106, dated January 3, 1997; Revision 01, dated April 16, 1997; Revision 02, dated January 20, 1998; or Revision 03, dated July 9, 1999.

(h) Restatement of Requirements of AD 2002-10-06, Amendment 39-12752 (67 FR 35425, May 20, 2002): Optional Method of Compliance

Installation of a FWC standard in accordance with the Accomplishment Instructions of Airbus Service Bulletin A320-31-1141, Revision 04, dated February 14, 2002, is an acceptable method of compliance with the replacement required by paragraph (g) of this AD.

(i) New Requirements of This AD: Flight Warning Computer Replacement

Within 48 months after the effective date of this AD: Replace both FWC units with FWC part number 350E053020909, in accordance with the Accomplishment Instructions of Airbus Mandatory Service Bulletin A320-31-1334, Revision 04, including Appendix 01, dated September 12, 2011.

(j) Credit for Previous Actions

(1) For all airplanes, except for Model A319 series airplanes on which modifications 28238, 28162, and 28342 have been incorporated: This paragraph provides credit for replacing both FWCs, as required by paragraph (i) of this AD, if the replacements were performed before the effective date of this AD using Airbus Service Bulletin A320-31-1334, dated July 30, 2009; Revision 01, dated December 14, 2009; Revision 02, dated September 13, 2010; or Revision 03, dated March 15, 2011.

(2) This paragraph provides credit for replacing both FWCs in lieu of the installation specified in paragraph (h) of this AD, if the replacements were performed before the effective date of this AD using Airbus Service Bulletin A320-31-1141, dated March 6, 2000; Revision 01, dated May 25, 2000; Revision 02, dated January 22, 2001; or Revision 03, dated June 12, 2001.

(k) Parts Installation

As of the effective date of this AD, and after accomplishing the actions in paragraph (i) of this AD, no person may install a FWC with a part number listed in table 1 of this AD on any airplane.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tim Dulin, Aerospace Engineer, International Branch, ANM-116, Transport Airplane Directorate, FAA, 1601 Lind Avenue SW., Renton, Washington 98057-3356; telephone 425-227-2141; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI EASA Airworthiness Directive 2011-0001, dated January 10, 2011; Airbus Service Bulletin A320-31-1106, Revision 04, dated December 21, 1999; Airbus Mandatory Service Bulletin A320-31-1106, Revision 05, dated September 21, 2000; Airbus Service Bulletin A320-31-1141, Revision 04, dated February 14, 2002; and Airbus Mandatory Service Bulletin A320-31-1334, Revision 04, including Appendix 01, dated September 12, 2011; for related information.

(n) Material Incorporated by Reference

(1) You must use the following service information to do the actions required by this AD, unless the AD specifies otherwise. The Director of the Federal Register approved the incorporation by reference (IBR) of the following service information under 5 U.S.C. 552(a) and 1 CFR part 51 on the date specified.

(2) The following service information was approved for IBR on April 17, 2012.

(i) Airbus Mandatory Service Bulletin A320-31-1106, Revision 05, dated September 21, 2000.

(ii) Airbus Service Bulletin A320-31-1141, Revision 04, dated February 14, 2002.

(iii) Airbus Mandatory Service Bulletin A320-31-1334, Revision 04, including Appendix 01, dated September 12, 2011.

(3) The following service information was approved for IBR on IBR June 24, 2002 (67 FR 35425, May 20, 2002).

(i) Airbus Service Bulletin A320-31-1106, Revision 04, dated December 21, 1999.

(4) For service information identified in this AD, contact Airbus, Airworthiness Office—EAS, 1 Rond Point Maurice Bellonte, 31707 Blagnac Cedex, France; telephone +33 5 61 93 36 96; fax +33 5 61 93 44 51; email: account.airworth-eas@airbus.com; Internet http://www.airbus.com.

(5) You may review copies of the service information at the FAA, Transport Airplane Directorate, 1601 Lind Avenue SW., Renton, Washington. For information on the availability of this material at the FAA, call 425-227-1221.

(6) You may also review copies of the service information that is incorporated by reference at the National Archives and Records Administration (NARA). For information on the availability of this material at an NARA facility, call 202-741-6030, or go to http://www.archives.gov/federal_register/code_of_federal_regulations/ibr_locations.html.

Issued in Renton, Washington, on January 24, 2012.
Kalene C. Yanamura,
Acting Manager, Transport Airplane Directorate, Aircraft Certification Service.

[FR Doc. 2012-5859 Filed 3-12-12; 8:45 am]

BILLING CODE 4910-13-P